DEPARTMENT OF THE INTERIOR

Fish and Wildlife Service

Choctaw National Wildlife Refuge

AGENCY: Fish and Wildlife Service, Department of the Interior.

ACTION: Notice of Availability of the Draft Comprehensive Conservation Plan and Environmental Assessment for Choctaw National Wildlife Refuge in Choctaw County, Alabama.

SUMMARY: The Fish and Wildlife Service announces that a Draft Comprehensive Conservation Plan and Environmental Assessment for Choctaw National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge manages with a 15-year strategy for achieving refuge purposes and contributing toward the mission of the National Wildlife Refuge System, consistent with sound principles of fish and wildlife management, conservation, legal mandates, and Service policies, In addition to outlining broad management direction on conserving wildlife and their habitats, plans identify wildlife-dependent recreational opportunities available to the public, including opportunities for hunting, fishing, wildlife observation, wildlife photography, and environmental education and interpretation.

Significant issues addressed in the draft plan include: threatened and endangered species, waterfowl management, neotropical migratory birds, bottomland hardwood restoration, fisheries management, visitor services, funding and staffing, cultural resources, and land protection.

DATES: A meeting will be held to present the plan to the public. Mailings, newspaper articles, and posters will be the avenues to inform the public of the date and time for the meeting. Individuals wishing to comment on the Draft Comprehensive Conservation Plan and Environmental Assessment for Choctaw National Wildlife Refuge should do so no later than March 10, 2006.

ADDRESSES: Requests for copies of the Draft Comprehensive Conservation Plan and Environmental Assessment should be addressed to Choctaw National Wildlife Refuge, P.O. Box 808, Jackson, Alabama 36545; Telephone 251/246-3583. The plan and environmental assessment may also be accessed and downloaded from the Service's Internet Web site http://southeast.fws.gov/planning/. Comments on the draft plan may be submitted to the above address or via electronic mail to mike_dawson@fws.gov. Please include your name and return address in your Internet message. Our practice is to make comments, including names and home addresses of respondents, available for public review during regular business hours. Individual respondents may request that we withhold their home addresses from the record, which we will honor to the extent allowed by law.

SUPPLEMENTARY INFORMATION: The Service developed four alternatives for managing the refuge and chose Alternative D as the preferred alternative.

Alternatives

The draft comprehensive conservation plan and environmental assessment evaluates the four alternatives for managing the refuge over the next 15 years. These alternatives are briefly described as follows:

Alternative A: No Action (Current Management Direction)

Choctaw National Wildlife Refuge's most important terrestrial vegetation community is its bottomland hardwood forests, which provide habitat for migratory birds, including both waterfowl and neotropical migratory forest-dependent birds, and other species. The refuge has a current Forest Management Plan, but it has not been fully implemented; some stand treatments have been applied, but secondary treatments, such as thinnings, have not. Regeneration is occurring on the forest floor, but not stand recruitment; saplings are not maturing due to being eaten by deer and feral hogs, frequent flooding, and shady conditions. There is a dense canopy at present that inhibits regeneration of all but the most shade-tolerant trees. While mast production is a good at present, it will probably decrease over the long term as oaks become over-mature and are not replaced by younger, more vigorous and productive oaks.

Backwaters, sloughs, and wetlands on the refuge are gradually filling in with sediments, a natural process of ecological succession that has been accelerated by human activity, namely the Coffeeville Dam and Reservoir standing water, in which sediments drop out and accumulate. This long-term process will continue under the Current Management Direction Alternative.

The main aquatic invasive species on the refuge at present are hydrilla, alligator weed, and water hyacinth; the potential exists for additional species to become problematic, as is giant salvinia. Major infestation by aquatic invasives of virtually all water bodies at present are displacing native aquatic/wetland plants and can exacerbate siltation. This, in turn, degrades fish habitat, including raising water temperature and reducing dissolved oxygen. There are also significant effects on water-based recreation and waterfowl habitat. At present, 75 acres of backwater slough emergents per year are treated with herbicides and this will continue under this alternative. To a lesser extent, biological controls will also continue to be used.

Invasive terrestrial plants and animals on the refuge include cogongrass and feral hogs. Cogongrass is sprayed annually. Feral hogs are in incidental species, which can be taken during other refuge hunts. The staff conducts limited trapping of these animals on the refuge. A recent reduction in the refuge's population of feral hogs appears to be due to off-refuge trapping by one or more neighboring landowners. Under the Current Management Direction Alternative, there will continue to be limited trapping and incidental hunting of feral hogs on the refuge.

As mentioned above, the refuge's bottomland hardwood forests provide important habitat for waterfowl and neotropical migratory birds, as well as resident wildlife. In addition, the refuge actively manages habitat for migratory birds by means of force-account farming (35 acres) and moist-soil management (15 acres at present). Under the Current Management Direction Alternative, these acreages will not change. The refuge also assists in the reproduction of the wood duck by providing 400 nest boxes; these are cleaned once annually. Staff members monitor them and collect nesting data.

Two federally listed species—the bald eagle and the wood stork—are documented as occurring on the refuge. Two active bald eagle nests are located on the refuge; these are protected by sanctuaries that involve some restriction of public access by boaters, anglers, hunters, and other refuge users. Wood storks are observed occasionally during the summer. This is a population that nests in Florida and migrates north after the nesting season.

With regard to resource protection, the Corps of Engineers has limited funds for dredging areas of the refuge that have been filling in with sediments. The Service's Daphne, Alabama, Ecological Services Office has contaminants specialists who, in the past, have conducted contaminants surveys but these are now dated and no complete surveys have ever been conducted. Oil and gas rights on the refuge are outstanding, and production necessitates communication and cooperation with oil/gas companies to reduce above-ground impacts and disturbance, as well as to avoid, minimize, and mitigate spills and contamination.

The principal public use on the refuge is fishing, which is regulated by the State of Alabama. Both bank fishing and boat fishing are available. Concerns have been expressed by the public about declining quality of the fishing experience, mainly because of degraded aquatic habitat from invasives and reduced access to potential fishing areas that have been rendered impenetrable due to emergent weedy vegetation. The Alabama Division of Wildlife and Freshwater Fisheries conducts periodic creel and angler surveys.

Secondary public uses on the refuge are hunting and wildlife observation. There is one wildlife observation platform, next to the moist-soil units. There is a 0.5-mile loop interpretive trail near the platform. Other forest roads permit foot travel, but access is difficult (only by boat). Current refuge hunts include an archery hunt for deer, and a small game season for squirrels, rabbits, and raccoons. There is no waterfowl hunting. The same public access and use under this alternative would continue; to gain access to many areas is by boat only from the reservoir.

The staff works with private land owners of approximately eight Farm Service Agency tracts to restore bottomland hardwood forests (i.e., planting oak trees) on easement areas.

Isolation of the refuge itself from the refuge headquarters—45 minutes to 1 hour away by road—inhibits hands-on refuge management; for example, there is no law enforcement, biological, forestry, or management presence on the refuge half of the time. The refuge itself is remote, and frequent flooding makes much of it inaccessible for much of year. This isolation and seasonal inaccessibility will continue under the Current Management Direction Alternative.

The current number of staff at the refuge is four: The refuge manager and an office assistant are located at the headquarters in Jackson, Alabama, and two maintenance workers are located on the refuge itself. As a result of staffing and budgetary limitations, there are limited data on wildlife and habitat distributions and trends, which inhibits the quantification of management objectives.

Alternative B. Enhanced Wildlife/Fisheries and Habitat Management

Under Alternative B, the refuge would update and fully implement its Forest Management Plan. Some tree harvest removal would be necessary to achieve understory and midstory conditions, with an emphasis on regeneration of bottomland hardwood oaks and other mast-bearing trees. As feasible, the Service would work with the Corps of Engineers to help adjust hydrological periods so that summer flooding occurs at fewer intervals and for shorter periods. The reason is to not kill oak trees and stymie oak regeneration.

With regard to backwaters, sloughs, and wetlands filling in with sediments, this alternative would use aerial and GPS/GIS techniques to document current colonization by plants and sedimentation trends over time. Aquatic invasive species would be kept under control via cooperative agreements with the Corps of Engineers and the State of Alabama. The refuge would initiate discussions with the Corps to reduce impacts of too-frequent inundation by the Coffeeville Dam and Reservoir and with the State to utilize approved methods of controlling invasive aquatic plants, which help trap sediments and worsen the problem. The result would be more effective control and reduced severity of infestations and slower sedimentation of refuge waters.

Cogongrass would be sprayed annually with the objective being to eradicate this exotic invasive species. The refuge would investigate replacing cogongrass on one bank it now infests, which provides ground cover to avoid erosion, with a native plant species. Programs like the State Landowner Incentive Program may offer funding or technical support that could be used in private lands habitat and wildlife management, including control of problem species, such as feral hogs. Partners for Fish and Wildlife is another program that might offer support to the refuge.

Alternative B would provide habitat for migratory birds, including waterfowl and neotropical, by using force-account farming (e.g., millet and grain sorghum) and intensified moist-soil management. Staff would level and regrade moist-soil units to facilitate water management; in addition, the area of moist soil would be increased to 25-35 acres by converting existing crop fields. Over the 15-year life of the plan, all crop fields would be phased out and transitioned to moist-soil units.

Under this alternative, staff would maintain the existing stock of 400 wood duck nest boxes, but more intensively monitor and collect nesting data from them. Each nest box would be cleaned at least twice annually, from once annually at present.

Two active bald eagle nests are on the refuge and would remain active under Alternative B. They would continue to be protected by sanctuaries that involve some restriction of public access by boaters, anglers, hunters, and other refuge visitors. It is assumed that wood storks would continue to be observed occasionally during the summer, as in the Current Management Direction Alternative. Under the Enhanced Wildlife/Fisheries and Habitat Management Alternative, the Service would investigate the movements of these wood storks via a radio telemetry study.

The refuge would obtain the assistance of contaminants specialists at the Service's Daphne, Alabama, Ecological Services Office to conduct contaminants surveys on the refuge to update information on key toxic contaminants, such as mercury and other heavy metals, pesticides, and salt water. Oil and gas production on the refuge would continue under Alternative B, necessitating communication and cooperation with oil companies to reduce above-ground impacts and disturbance, as well as to avoid, minimize, and mitigate spills and contamination.

The principal wildlife-dependent recreation under the Enhanced Wildlife/Fisheries and Habitat Management Alternative would continue to be fishing, regulated by the State of Alabama. Both bank and boat fishing would be available. The State would conduct periodic creel and angler surveys, as it does at present. Improved aquatic habitat management would aim to increase fish populations and angler access. This alternative would explore stump removal to improve both fisheries habitat and boat access.

Secondary public uses would continue to be hunting and wildlife observation. There would be one wildlife observation platform, next to the moist-soil units, as at present, and a 0.5-mile loop interpretive trail near the platform. Other forest roads would permit foot travel, but overall access would remain difficult (only by boat). Under Alternative B, the Service would look to build a bridge across the mouth of Okatuppa Creek to facilitate management access; this bridge would also be accessible to public foot travel. Refuge hunts would include those held currently: an archery hunt for deer, and a small game season for squirrels, rabbits, and raccoons. No waterfowl hunting would be permitted. Feral hogs would be considered incidental species and could be taken during all refuge hunts. The same public access and use under this alternative would continue; to gain access to many areas would remain only by boat from the reservoir.

The staff would continue to monitor habitat restoration of approximately eight Farm Service Agency tracts planted in bottomland hardwood forests.

Under the Enhanced Wildlife/Fisheries and Habitat Management Alternative, isolation of the refuge itself from refuge headquarters would continue to inhibit hands-on management. The remoteness of the refuge would not change, and frequent flooding would continue to render much of it inaccessible for much of the year.

One assistant refuge manager with law enforcement collateral duty would be added, as well as one wildlife biologist. The refuge would investigate sharing a forester with other refuges. Recommended staffing would consist of a refuge manager, assistant refuge manager, and office assistant at the refuge headquarters, and a biologist and two maintenance workers on the refuge itself.

Alternative C. Enhanced Wildlife-Dependent Recreation

Under Alternative C, the refuge's existing Forest Management Plan, which has not been fully implemented, would continue in effect, but again would not be fully implemented. Some stand treatments would be applied, but secondary treatments (thinnings) would not. Regeneration would occur on the forest floor, but stand recruitment would continue to lag. Most saplings would not mature because of heavy foraging pressure by white-tailed deer and feral hogs, frequent flooding, and shady conditions. A dense canopy would continue to inhibit regeneration of all but the most shade-tolerant trees. At first, mast production would remain high, but would probably decrease over the long term (i.e., beyond the 15-year life of the comprehensive conservation plan) as oaks become over-mature and are not replaced by younger, more vigorous and productive oaks.

Backwaters, sloughs, and wetlands on the refuge would continue gradually filling in with sediments, a natural process of ecological succession that has been accelerated by human activity, namely the Coffeeville Dam and Reservoir's standing water, in which sediments drop out and accumulate. This long-term process would continue under the Enhanced Wildlife-Dependent Recreation Alternative.

Although the main aquatic invasive species on the refuge are hydrilla, alligator weed, and water hyacinth at present, the potential exists for additional species to become problematic, such as giant salvinia. Major infestation by aquatic invasives of virtually all waterbodies at present are displacing native aquatic/wetland plants like giant bulrush and can exacerbate siltation. This, in turn, degrades fish habitat, including raiding water temperature and reducing dissolved oxygen. There are also significant effects on water-based recreation and waterfowl habitat. At present, 75 acres of backwater slough emergents per year are treated with herbicides and this would continue under this alternative. To a lesser extent, biological controls would also continue to be used.

There would be no change in the management of invasive terrestrial plants and animals on the refuge under this alternative from the Current Management Direction Alternative.

The refuge would continue to actively manage habitat for migratory birds by means of force-account farming and moist-soil management. Under this alternative, the acreages would not change from the acreages being farmed under the Current Management Direction Alternative.

The refuge would continue to assist in the reproduction of the wood duck by providing 400 nest boxes and managing as is currently being done.

Management of two federally listed species—bald eagle and wood stork—would remain the same as under the Current Management Direction Alternative.

With regard to resource protection, the Corps of Engineers has limited funds for dredging areas of the refuge that have been filling in with sediments. The Service's Daphne, Alabama, Ecological Services Office has contaminants specialists who, in the past, have conducted contaminants surveys but these are now dated and no complete surveys have ever been conducted. Oil and gas rights on the refuge are outstanding, and production necessitates communication and cooperation with oil/gas companies to reduce above-ground impacts and disturbance, as well as to avoid, minimize, and mitigate spills and contamination.

Refuge staff would continue to work with private landowners on approximately eight Farm Service tracts to restore bottomland hardwood forests on easement areas.

Under Alternative C, the principal wildlife-dependent recreation would remain fishing, regulated by the State. Both bank and boat fishing would be available. The State would continue to conduct periodic creel and angler surveys. Within five years of the comprehensive conservation plan's approval, the refuge would build new fishing facilities, such as a handicapped accessible fishing pier. It would also provide additional woody structure within the reservoir, and open boating access via stump removal and increased aquatic vegetation control.

Secondary public uses would continue to be hunting and wildlife observation in the Enhanced Wildlife-Dependent Recreation Alternative. This alternative would also offer an improved wildlife observation platform, next to the moist-soil units. The Service would seek to build a pedestrian bridge over the mouth of Okatuppa Creek to facilitate and improve access to Middle Swamp. Refuge hunts would include an archery hunt for deer, and small game season for squirrels, rabbits, and raccoons. A waterfowl hunt for youths would be added, contingent upon having staffing resources to manage the hunt. Feral hogs would be considered an incidental species and could be taken during all refuge hunts. The same public access and use would continue under this alternative; to gain access to many areas would remain by boat only from the reservoir. More environmental education opportunities both on and off the refuge would be pursued.

Isolation of the refuge from its headquarters would continue to inhibit hands-on management. Alternative C would add one assistant refuge manager with law enforcement collateral duty, as well as one park ranger. Recommended staffing would then be six: Refuge manager, assistant refuge manager, and office assistant at refuge headquarters, and a park ranger and two maintenance workers on the refuge.

Alternative D. Enhanced Wildlife/Fisheries, Habitat, and Public Use (Preferred Alternative)

Under Alternative D, the refuge would update and fully implement its Forest Management Plan. Some tree harvest removal would be necessary to achieve understory and midstory conditions, with an emphasis on regeneration of bottomland hardwood oaks and other mast-bearing trees. As feasible, the Service would work with the Corps of Engineers to adjust hydrological periods so that summer flooding occurs at fewer intervals and for shorter periods. This would avoid oak seedling mortality that now thwarts oak regeneration.

With regard to the refuge backwaters, sloughs, and wetlands now filling in with sediments, Alternative D would utilize aerial and GPS/GIS techniques to document current colonization by plants and sedimentation trends over time. Aquatic invasive species would be kept under control via cooperative agreements with the Corps of Engineers and the State of Alabama. The refuge would initiate discussions with the Corps to reduce impacts of too-frequent inundation by the Coffeeville Dam and Reservoir, and with the State to utilize approved methods of controlling invasive aquatic plants, which help trap sediments and worsen the problem. The result would be more effective control and reduced severity of infestations and slower sedimentation of refuge waters.

Cogongrass would be sprayed annually with the objective being to eradicate this exotic invasive species. The refuge would investigate replacing cogongrass on one bank it now infests, which provides ground cover to avoid erosion, with a native plant species. Programs like the State Landowner Incentive Program may offer funding or technical support that could be used in private lands habitat and wildlife management, including control of problem species like feral hogs. Another possibility that the refuge would explore using is the Partners for Fish and Wildlife program.

Alternative D would provide habitat for migratory birds, including waterfowl and neotropical migratory birds, by using force-account farming (e.g., millet and grain sorghum) and intensified moist-soil management. Staff would level and regrade moist-soil units to facilitate water management; in addition, the area of moist soil would be increased to 25-35 acres by converting existing crop fields. Over the 15-year life of the comprehensive conservation plan, all crop fields would be phased out and transitioned to moist-soil units.

Under this alternative, staff would maintain the existing stock of 400 wood duck nest boxes, but more intensively monitor and collect nesting data from them. Each nest box would be cleaned at least twice annually (from once annually at present).

Two active bald eagle nests are on the refuge and would remain active under Alternative D. They would continue to be protected by sanctuaries that involve some restriction of public access by boaters, anglers, hunters and other refuge visitors. It is assumed that wood storks would continue to be observed occasionally during the summer, as in the Current Management Direction Alternative. Under Alternative D, the Service would investigate the movements of these wood storks via a radio telemetry study.

Under the preferred alternative only, the refuge would request the assistance of contaminants specialists form the Service's Daphane, Alabama, Ecological Services Office to conduct complete contaminants surveys on the refuge to update information on the status of key toxic contaminants, such as mercury and other heavy metals, pesticides, and salt water. Oil and gas production on the refuge would continue, necessitating communication and cooperation with oil companies to reduce above-ground impacts and disturbance, as well as to avoid, minimize, and mitigate spills and contamination.

Under Alternative D, the principal wildlife-dependent recreation would remain fishing, regulated by the State of Alabama. Both bank and boat fishing would be available. The State would continue to conduct periodic creel and angler surveys. Within 5 years of approval of the comprehensive conservation plan, the refuge would build new fishing facilities, such as a handicapped accessible fishing pier. It would also provide additional woody structure within the reservoir, and open boating access via stump removal and increased aquatic vegetation control.

Secondary public uses would continue to be hunting and wildlife observation as in the Enhanced Wildlife-Dependent Recreation Alternative. This alternative would also offer an improved wildlife observation platform, next to the moist-soil units. The Service would seek to build a pedestrian bridge over the mouth of Okatuppa Creek to facilitate and improve access to Middle Swamp. Refuge hunts would include an archery hunt for deer, and a small game season for squirrels, rabbits and raccoons. A waterfowl hunt for youths would be added, contingent on having staffing resources to manage the hunt. The same public access and use under this alternative would continue; to gain access to many areas would remain by boat only from the reservoir. Many more environmental education opportunities both on and off the refuge would be pursued.

Even under Alternative D, isolation of the refuge from its headquarters would continue to hamper hands-on refuge management. The alternative would add one assistant refuge manager with law enforcement collateral duty, and one wildlife biologist with visitor services collateral duty; and would also investigate sharing a forester with other refuges. Recommended staffing would be six: Refuge manager, assistant refuge manager, and office assistant at refuge headquarters, and a biologist and two maintenance workers on the refuge.

Authority: This notice is published under the authority of the National Wildlife Refuge System Improvement Act of 1997, Public Law 105-57.

Dated: July 25, 2005.
Linda H. Kelsey,
Acting Regional Director.

[FR Doc. 06-616 Filed 1-23-06; 8:45 am]

BILLING CODE 4310-55-M